DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and 60 FR 56605-06, dated November 9, 1995, and as amended most recently at 69 FR 77756, dated December 28, 2004) is amended to reflect the realignment of functions within the Centers for Disease Control and Prevention (CDC). The reorganization of CDC is being undertaken to better align CDC's organizational structure and workforce to achieve public health goals, increase health protection, health impact, and ensure CDC's emergency response capabilities to public health threats and events. The changes are as follows:

A. Under Part C, the Centers for Disease Control and Prevention (CDC), as an Operating Division within the Department of Health and Human Services, is headed by a Director, who reports directly to the Secretary, and includes the following organizational components:

• Office of the Director (CA)

• Coordinating Office for Global Health (CW)

• Coordinating Office for Terrorism Preparedness and Emergency Response (CG)

• Coordinating Center for Environmental Health & Injury Prevention (CT)

—National Center for Environmental Health (CTB)

—National Center for Injury Prevention and Control (CTC)

• Coordinating Center for Health Information and Services (CP)

—National Center for Health Marketing (CPB)

—National Center for Health Statistics (CPC)

—National Center for Public Health Informatics (CPE)

• Coordinating Center for Health Promotion (CU)

—National Center on Birth Defects and Developmental Disabilities (CUB)

—National Center for Chronic Disease Prevention and Health Promotion (CUC)

—Office of Genomics and Disease Prevention (CUE)

• Coordinating Center for Infectious Diseases (CV)

—National Center for HIV, STD, & TB Prevention (CVB)

—National Center for Infectious Diseases (CVC)

—National Immunization Program (CVE)

• National Institute for Occupational Safety and Health (CC)

B. Under Part C, delete the following organizational units in their entireties:

National Center on Birth Defects and Developmental Disabilities (CF)

National Center for Chronic Disease Prevention and Health Promotion (CL)

National Center for Environmental Health (CN)

National Center for Health Statistics (CS)

National Center for HIV, STD, & TB Prevention (CK)

National Center for Infectious Diseases (CR)

National Center for Injury Prevention and Control (CE)

National Immunization Program (CJ)

Office of Genomics and Disease Prevention (CAK)

Office of Global Health (CAB)

C. Under Part C, Section titled Functions, add the following changes:

1. Coordinating Office for Global Health (CW)

2. Coordinating Office for Terrorism Preparedness and Emergency Response (CG)

3. Coordinating Center for Environmental Health and Injury Prevention (CT): The Coordinating Center for Environmental Health and Injury Prevention (CCEHIP), which is headed by a Coordinating Center Director, shall include an Office of the Director (CTA) and the following components are transferred intact to the CCEHIP: National Center for Environmental Health (CTB); and the National Center for Injury Prevention and Control (CTC).

4. Coordinating Center for Health Information and Services (CP): The Coordinating Center for Health Information and Services (CCHIS), is headed by a Coordinating Center Director and shall include: An Office of the Director (CPA); the National Center for Health Marketing (CPB) and the National Center for Public Health Informatics (CPE); and the National Center for Health Statistics (CPC) is transferred intact to the CCHIS.

5. Coordinating Center for Health Promotion (CU): The Coordinating Center for Health Promotion (CCHP), which is headed by a Coordinating Center Director, shall include an Office of the Director (CUA) and the following components are transferred intact to the CCHP: National Center on Birth Defects and Developmental Disabilities (CUB); National Center for Chronic Disease Prevention and Health Promotion (CUC); and the Office of Genomics and Disease Prevention (CUE).

6. Coordinating Center for Infectious Diseases (CV): The Coordinating Center for Infectious Diseases (CCID), which is headed by a Coordinating Center Director, shall include an Office of the Director (CVA) and the following components are transferred intact to the CCID: National Center for HIV, STD, & TB Prevention (CVB); National Center for Infectious Diseases (CVC); and the National Immunization Program (CVE).

C. Continuation of Policy: Except as inconsistent with this reorganization, all statements of policy and interpretations with respect to the Centers for Disease Control and Prevention heretofore issued and in effect prior to the date of this reorganization are continued in full force and effect.

D. Delegations of Authority: All delegations and redelegations of authority made to officials and employees of affected organizational components will continue in them or other successors pending further redelegation, provided they are consistent with this reorganization.

E. Funds, Personnel and Equipment. Transfer of organizations and functions affected by this reorganizations shall be accompanied in each instance by direct and support funds, positions, personnel, records, equipment and other resources.

Dated: May 6, 2005.
Michael O. Leavitt,
Secretary.

[FR Doc. 05-9899 Filed 5-17-05; 8:45 am]

BILLING CODE 4160-18-M